DEPARTMENT OF LABOR

Employment and Training Administration

[TA-W-62,364; TA-W-62,364A]

Cellular Express, Inc., d/b/a Boston Communications Group, Inc., Bedford, Massachusetts; Including an Employee of Cellular Express, Inc., d/b/a Boston Communications Group, Inc., Bedford, Massachusetts, Located in Cumberland Furnace, Tennessee; Amended Certification Regarding Eligibility To Apply for Worker Adjustment Assistance and Negative Determination Regarding Eligibility to Apply for Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on November 14, 2007, applicable to workers of Cellular Express, Inc., d/b/a Boston Communications Group, Inc., Bedford, Massachusetts. The notice was published in the Federal Register on December 10, 2007 (72 FR 69710).

At the request of a company official, the Department reviewed the certification for workers of the subject firm.

New information shows that worker separation has occurred involving an employee of the Bedford, Massachusetts facility of Cellular Express, Inc., d/b/a Boston Communications Group, Inc., working out of Cumberland Furnace, Tennessee. Mr. Edward C. Butcher performed support duties for the firm's Bedford, Massachusetts, software development, testing, and monitoring.

Based on these findings, the Department is amending this certification to include an employee of the Bedford, Massachusetts facility of Cellular Express, Inc., d/b/a Boston Communications Group, Inc. working out of Cumberland Furnace, Tennessee.

The intent of the Department's certification is to include all workers of Cellular Express, Inc., d/b/a Boston Communications Group, Inc., Bedford, Massachusetts, who were adversely affected by increased imports following a shift in production to India.

The amended notice applicable to TA-W-62,364 is hereby issued as follows:

“All workers of Cellular Express, Inc., d/b/a Boston Communications Group, Inc. Bedford, Massachusetts (TA-W-62,364), including an employee of Cellular Express, Inc., d/b/a Boston Communications Group, Inc., Bedford, Massachusetts located in Cumberland Furnace, Tennessee (TA-W-62,364A), who became totally or partially separated from employment on or after October 25, 2006, through November 14, 2009, are eligible to apply for adjustment assistance under Section 223 of the Trade Act of 1974.”

I further determine that workers of Cellular Express, Inc., d/b/a Boston Communications Group, Inc., Bedford, Massachusetts (TA-W-62,364), including an employee of Cellular Express, Inc., d/b/a Boston Communications Group, Inc., Bedford, Massachusetts, located in Cumberland Furnace, Tennessee (TA-W-62,364A), are denied eligibility to apply for alternative trade adjustment assistance under Section 246 of the Trade Act of 1974.

Signed at Washington, DC, this 20th day of December 2007.
Linda G. Poole,
Certifying Officer, Division of Trade Adjustment Assistance.

[FR Doc. E7-25358 Filed 12-28-07; 8:45 am]

BILLING CODE 4510-FN-P